DEPARTMENT OF HEALTH AND HUMAN SERVICES

Centers for Medicare & Medicaid Services (CMS)

Privacy Act of 1974; Matching Program

AGENCY: Centers for Medicare & Medicaid Services (CMS), Department of Health and Human Services (HHS).

ACTION: Notice of a New Matching Program.

SUMMARY: In accordance with subsection (e)(12) of the Privacy Act of 1974, as amended, the Department of Health and Human Services (HHS), Centers for Medicare & Medicaid Services (CMS) is providing notice of a new matching program between CMS and the Office of Personnel Management (OPM), “Verification of Eligibility for Minimum Essential Coverage Under the Patient Protection and Affordable Care Act Through an Office of Personnel Management Health Benefit Plan.”

DATES: The deadline for comments on this notice is December 10, 2018. The re-established matching program will commence not sooner than 30 days after publication of this notice, provided no comments are received that warrant a change to this notice. The matching program will be conducted for an initial term of 18 months (from approximately January 2019 to July 2020) and within three months of expiration may be renewed for one additional year if the parties make no change to the matching program and certify that the program has been conducted in compliance with the matching agreement.

ADDRESSES: Interested parties may submit written comments on this notice, by mail or email, to the CMS Privacy Officer, Division of Security, Privacy Policy & Governance, Information Security & Privacy Group, Office of Information Technology, Centers for Medicare & Medicaid Services, Location: N1-14-56, 7500 Security Blvd., Baltimore, MD 21244-1850, Walter.Stone@cms.hhs.gov.

FOR FURTHER INFORMATION CONTACT: If you have questions about the matching program, you may contact Jack Lavelle, Senior Advisor, Marketplace Eligibility and Enrollment Group, Center for Consumer Information and Insurance Oversight, CMS, 7501 Wisconsin Ave., Bethesda, MD 20814, (410) 786-0639, or by email at Jack.Lavelle1@cms.hhs.gov.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12).

This matching program meets these requirements.

Barbara Demopulos,
CMS Privacy Advisor, Information Security and Privacy Group, Division of Security, Privacy Policy and Governance, Office of Information Technology, Centers for Medicare & Medicaid Services.

Participating Agencies

Department of Health and Human Services (HHS), Centers for Medicare & Medicaid Services (CMS) is the recipient agency, and the Office of Personnel Management (OPM) is the source agency.

Authority for Conducting the Matching Program

The matching program is authorized under 42 U.S.C. 18001, et seq.

Purpose(s)

The purpose of the matching program is to assist CMS in determining individuals' eligibility for financial assistance in paying for private health insurance coverage. In this matching program, OPM provides CMS with data, on a monthly basis, verifying each active federal employee's status as enrolled in or eligible for coverage under an OPM Health Benefit Plan, and an annual premium spread index file identifying the lowest premium available to a federal employee in each of 32 premium localities. CMS and state administering entities will use the OPM data to verify whether an applicant for or enrollee in private health insurance coverage under a qualified health plan through a federally-facilitated or state-based health insurance exchange is eligible for coverage under an OPM health benefit plan. OPM health benefit plans provide minimum essential coverage (MEC), and eligibility for such plans usually precludes eligibility for financial assistance (including an advance payment of the premium tax credit (APTC) or cost sharing reduction (CSR), which are types of insurance affordability programs). The OPM data will be used by CMS to authenticate identity, determine eligibility, and determine the amount of any financial assistance.

Categories of Individuals

The categories of individuals whose information is involved in the matching program are:

• Active federal employees; and

• consumers who apply for or are enrolled in a qualified health plan through an exchange established under the Patient Protection and Affordable Care Act (ACA) and receive determinations of eligibility for insurance affordability programs.

Categories of Records

The categories of records which OPM will provide to CMS are monthly status files consisting of identity records and minimum essential coverage period records, and an annual premium spread index file containing premium information based on locality. The data elements are as follows:

• Monthly status file:

a. Record type;

b. record number;

c. unique person ID;

d. social security number;

e. last name;

f. middle name;

g. first name;

h. last name suffix;

i. gender;

j. date of birth; and

k. health plan code.

• Annual Premium Spread Index File:

a. State;

b. plan;

c. option;

d. enrollment code;

e. current total bi-weekly premium;

f. future total bi-weekly premium;

g. future government pays bi-weekly premium;

h. future employee pays bi-weekly premium

i. future change in employee payment bi-weekly premium;

j. current total monthly premium;

k. future total monthly premium;

l. future government pays monthly premium;

m. future employee pays monthly premium; and

n. future change in employee payment monthly premium.

CMS will not send any data about individual applicants/enrollees to OPM in order to receive this data from OPM about active federal employees.

System(s) of Records

The records used in this matching program will be disclosed to CMS from the OPM system of records identified below, and will be matched against applicant/enrollee records in the CMS system of records identified below:

A. System of Records Maintained by CMS

• CMS Health Insurance Exchanges System (HIX), System No. 09-70-0560, last published in full at 78 FR 63211 (Oct. 23, 2013), as amended at 83 FR 6591 (Feb. 14, 2018).

B. System of Records Maintained by OPM

• General Personnel Records (OPM/GOVT-1), 77 FR 73694 (Dec. 11, 2012). The disclosures to CMS will be made in accordance with routine use “rr.”

[FR Doc. 2018-24421 Filed 11-7-18; 8:45 am]

BILLING CODE 4120-03-P